DEPARTMENT OF HEALTH AND HUMAN SERVICES

[Document Identifier: OS-0990-0317]

Agency Information Collection Request: 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: HHS-5161-1 form—Revision—OMB No. 0990-0317—The Office of the Secretary (OS).

Abstract: HHS is requesting clearance for the Checklist and Program Narrative & the Public Health System Impact Statement (PHSIS), used by several former PHS agencies within HHS; CDC 0.1113 supplemental forms used exclusively by CDC; a supplement form used exclusively by Substance Abuse Mental Health Services Administration (SAMHSA), and the Single Source Agency (SSA) notification form, as well as continued use of the project abstract form. In addition, HHS will continue to include the use of the 5161-1 form for several emergency acts and funding that were the result of the September 11th attack on the World Trade Center. Specifically, the Public Health Preparedness for Response to Bioterrorism (Emergency Supplement) (CDC), the Bioterrorism Hospital Preparedness Program cooperative agreement (HRSA), and 2 emergency response grants from (SAMHSA). The only change requested is the addition of the “Trafficking Victims Protection Act of 2000 (Section 106), as amended (22 U.S.C. 7104(g).

Estimated Annualized Burden Table
Forms | Number of respondents | Response per respondents | Avg. burden per response (in hours) | Total burden (in hours)
Program Narrative, Checklist, & Project Abstract | 7,338 | 1 | 4 | 29,373
Program Narrative, Checklist & Project Narrative (CDC) | 59 | 6 | 24 | 8,496
Program Narrative, Checklist, & Project Narrative (HRSA) | 59 | 1 | 50 | 2,950
CDC Form 0.1113 | 1,000 | 1 | 30/60 | 500
Public Health Impact Statement (PHSIS) | 2,845 | 2.5 | 10/60 | 1,185
SSA (SAMHSA) | 1,125 | 1 | 10/60 | 187
Total |  |  |  | 42,691

Seleda Perryman,
Office of the Secretary, Paperwork Reduction Act Reports Clearance Officer.

[FR Doc. 2010-9656 Filed 4-26-10; 8:45 am]

BILLING CODE 4151-17-P